DEPARTMENT OF COMMERCE

National Oceanic and Atmospheric Administration

50 CFR Part 679

[Docket No. 041126333-5040-02; I.D. 112204C]

Fisheries of the Exclusive Economic Zone Off Alaska; Gulf of Alaska; Final 2005 and 2006 Harvest Specifications for Groundfish

AGENCY: National Marine Fisheries Service (NMFS), National Oceanic and Atmospheric Administration (NOAA), Commerce.

ACTION: Final 2005 and 2006 harvest specifications for groundfish and associated management measures; closures.

SUMMARY: NMFS announces final 2005 and 2006 harvest specifications, reserves and apportionments thereof, Pacific halibut prohibited species catch (PSC) limits, and associated management measures for the groundfish fishery of the Gulf of Alaska (GOA). This action is necessary to establish harvest limits and associated management measures for groundfish during the 2005 and 2006 fishing years and to accomplish the goals and objectives of the Fishery Management Plan for Groundfish of the Gulf of Alaska (FMP). The intended effect of this action is to conserve and manage the groundfish resources in the GOA in accordance with the Magnuson-Stevens Fishery Conservation and Management Act (Magnuson-Stevens Act).

DATES: The final 2005 and 2006 harvest specifications and associated management measures are effective at 1200 hrs, Alaska local time (A.l.t.), February 24, 2005, through 2400 hrs, A.l.t., December 31, 2006.

ADDRESSES: Copies of the Final Environmental Assessment (EA) and Final Regulatory Flexibility Analysis (FRFA) prepared for this action are available from Alaska Region, NMFS, P.O. Box 21668, Juneau, AK 99802, Attn: Lori Durall or from the Alaska Region Web site at http://www.fakr.noaa.gov. Copies of the final 2004 Stock Assessment and Fishery Evaluation (SAFE) report for the groundfish resources of the GOA, dated November 2004, are available from the North Pacific Fishery Management Council (Council), West 4th Avenue, Suite 306, Anchorage, AK 99510-2252 (907-271-2809) or from its Web site at http://www.fakr.noaa.gov/npfmc.

FOR FURTHER INFORMATION CONTACT: Tom Pearson, Sustainable Fisheries Division, Alaska Region, 907-481-1780, or e-mail at tom.pearson@noaa.gov.

SUPPLEMENTARY INFORMATION:

Background

NMFS manages the groundfish fisheries in the exclusive economic zone (EEZ) of the GOA under the FMP. The North Pacific Fishery Management Council (Council) prepared the FMP under the authority of the Magnuson-Stevens Act, 16 U.S.C. 1801, et seq. Regulations governing U.S. fisheries and implementing the FMP appear at 50 CFR parts 600 and 679.

Amendments 48/48 to the FMP and to the Fishery Management Plan for Groundfish of the Bering Sea and Aleutian Islands Management Area (BSAI) were approved by NMFS on October 12, 2004. The final rule implementing Amendments 48/48 was published November 8, 2004 (69 FR 64683). Amendments 48/48 revise the administrative process used to establish annual specifications for the groundfish fisheries of the GOA and the BSAI. The goals of Amendments 48/48 in revising the specifications process are to: (1) Manage fisheries based on the best scientific information available, (2) provide for adequate prior public review and comment on Council recommendations, (3) provide for additional opportunity for Secretarial review, (4) minimize unnecessary public confusion and disruption to fisheries, and (5) promote administrative efficiency.

Based on the approval of Amendments 48/48, the Council recommended 2005 and 2006 proposed specifications for GOA groundfish. These proposed specifications were based on the 2003 SAFE report. The 2004 SAFE report, dated November 2004, was used to develop the final 2005 and 2006 groundfish acceptable biological catch (ABC) and overfishing level (OFL) amounts. The 2006 specifications will be updated in early 2006, when final specifications for 2006 and new specifications for 2007 are implemented.

In October 2004, the Council also recommended a biennial harvest specifications process for certain long-lived species and for species for which little new management information is available on other than a biennial basis. Based on current survey schedules, the GOA species for which biennial harvest specifications process would be used are deep water flatfish, rex sole, shallow water flatfish, flathead sole, arrowtooth flounder, slope rockfish, northern rockfish, Pacific ocean perch, shortraker rockfish, rougheye rockfish, pelagic shelf rockfish, thornyhead rockfish, demersal shelf rockfish, skates, and Atka mackerel. Stock assessment surveys are conducted biennially in the GOA for these species. Because new information is currently updated every two years and harvest amounts are fairly stable from year to year, the harvest specification process for these species is anticipated every two years. If new management information becomes available for any of those species on a more frequent basis, an annual harvest specifications process could still be used. Amendment 48 to the GOA FMP allows harvest specifications to be established for up to two fishing years, and the administrative process to establish these biennial harvest specifications will be done every other year, concurrent with the annual harvest specifications process used for other species.

Allowing for up to two years of specifications during the specification process recognizes the time period of projections that must be used for establishing harvest specifications that will allow for rulemaking in the following year and provides the Council and NMFS the flexibility to conduct either an annual or biennial specification process in response to potential changes in the frequency of stock assessment surveys or in other data or administrative issues. Based on current survey schedules and available information, pollock, trawl sablefish, Pacific cod, and “other species” category fisheries in the GOA will be managed using an annual harvest specification process. However, this process will provide specifications for two years. The second year's specifications will be replaced by the new harvest specifications through rulemaking based on the annual harvest specification process. Any proposed changes from using either an annual process or a biennial process for a particular target species will be analyzed during the harvest specification process.

The Council recommended that specifications for the hook-and-line gear and pot gear sablefish individual fishing quota (IFQ) fisheries continue to be limited to one year to ensure that those fisheries are conducted concurrent with the halibut IFQ fishery and are based on the most recent survey information (69 FR 44634, July 27, 2004). Having the sablefish IFQ fisheries concurrent with the halibut IFQ fishery will reduce the potential for discards of halibut and sablefish in these fisheries. Because of the high value of this fishery, the Council recommended the setting of TAC be based on the most recent survey information. Under the current IFQ fishery season start date, sablefish stock assessments based on the most recent survey are available before the beginning of the fishery to allow for rulemaking each year. The sablefish IFQ fisheries remain closed at the beginning of each fishing year, until the final specifications for the sablefish IFQ fisheries are in effect. The trawl sablefish fishery will be managed using specifications for up to a 2-year period, similar to GOA pollock, Pacific cod, and the “other species” category.

The FMP and its implementing regulations require NMFS, after consultation with the Council, to specify the total allowable catch (TAC) for each target species and for the “other species” category, the sum of which must be within the optimum yield (OY) range of 116,000 to 800,000 metric tons (mt). Section 679.20(c)(1) further requires NMFS to publish and solicit public comment on proposed annual TACs, halibut PSC amounts, and seasonal allowances of pollock and inshore/offshore Pacific cod. The final specifications set forth in Tables 1 through 16 of this document satisfy these requirements. For 2005, the sum of the TAC amounts is 291,298 mt. For 2006, the sum of the TAC amounts is 284,023 mt.

The proposed GOA groundfish specifications and Pacific halibut PSC allowances for 2005 and 2006 were published in the Federal Register on December 7, 2004 (69 FR 70605). Comments were invited and accepted through January 6, 2005. NMFS received two letters of comment on the proposed specifications. These letters of comment are summarized in the “Response to Comments” section of this action. NMFS consulted with the Council during the December 2004 Council meeting in Anchorage, AK. After considering public comments received, as well as biological and economic data that were available at the Council's December 2004 meeting, NMFS is implementing the final 2005 and 2006 groundfish specifications as recommended by the Council.

Regulations at § 679.20(c)(2)(i) establish interim amounts of each proposed TAC and allocations, and proposed PSC allowances established under § 679.21 that become available at 0001 hrs, A.l.t., January 1, and remain available until superceded by the final specifications. NMFS published the interim 2005 harvest specifications in the Federal Register on December 17, 2004 (69 FR 74455). With the implementation of Amendment 48 to the GOA FMP, the publication of interim specifications will not be necessary beyond 2005. The final 2005 groundfish specifications, apportionments, and halibut PSC allowances contained in this action supercede the interim 2005 groundfish harvest specifications.

Steller Sea Lion Protection Measures Revisions

In June 2004, the Council unanimously recommended revisions to the Steller sea lion protection measures in the GOA to alleviate part of the economic burden on coastal communities while maintaining protection for Steller sea lions and their critical habitat. NMFS published a final rule to implement these revisions on December 20, 2004 (69 FR 75865) with the effective date of January 19, 2005. These revisions adjust pollock and Pacific cod fishing closures near four Steller sea lion haulouts and revise seasonal management of pollock harvest. The revised pollock harvest management measures would affect the annual specifications by extending the A and C season dates for pollock and provide clarification as to how the Regional Administrator, Alaska Region, NMFS (Regional Administrator), would rollover unharvested amounts of pollock between seasons.

The final rule extends the pollock A season dates from January 20 through February 25 to January 20 through March 10 (§ 679.23(d)(2)(i)) and extends the pollock C season dates from August 25 through September 15 to August 25 through October 1 (§ 679.23(d)(2)(iii)) in the Western and Central Regulatory Areas of the GOA. The final action also changes regulatory provisions for the rollover of a statistical area's unharvested pollock apportionment into the subsequent season. The rollover amount is limited to 20 percent of the seasonal apportionment for the statistical area. Any unharvested pollock above the 20 percent limit could be further distributed to the other statistical areas, in proportion to the estimated biomass in the subsequent season in those statistical areas (§ 679.20(a)(5)(iii)(B)).

Acceptable Biological Catch (ABC) and TAC Specifications

The final ABC levels are based on the best available biological and socioeconomic information, including projected biomass trends, information on assumed distribution of stock biomass, and revised methods used to calculate stock biomass. The FMP specifies the formulas, or tiers, to be used in computing ABCs and OFLs. The formulas applicable to a particular stock or stock complex are determined by the level of reliable information available to fisheries scientists. This information is categorized into a successive series of six tiers with tier one representing the highest level of information and tier six the lowest level of information.

The Council, its Advisory Panel (AP), and its Scientific and Statistical Committee (SSC) reviewed current biological and harvest information about the condition of groundfish stocks in the GOA in December 2004. This information was compiled by the Council's GOA Plan Team and was presented in the final 2004 SAFE report for the GOA groundfish fisheries, dated November 2004.

The SAFE report contains a review of the latest scientific analyses and estimates of each species' biomass and other biological parameters, as well as summaries of the available information on the GOA ecosystem and the economic condition of the groundfish fisheries off Alaska. From these data and analyses, the Plan Team estimates an ABC for each species or species category.

The SSC, AP, and Council adopted the Plan Team's ABC recommendations for all groundfish species categories. The final ABCs, as adopted by the Council for the 2005 and 2006 fishing years, are listed in Tables 1 and 2.

As in 2004, the SSC and Council recommended that the method of apportioning the sablefish ABC among management areas in 2005 and 2006 include commercial fishery and survey data. NMFS stock assessment scientists believe that the use of unbiased commercial fishery data reflecting catch-per-unit effort provides a desirable input for stock distribution assessments. The use of commercial fishery data is evaluated annually to ensure that unbiased information is included in stock distribution models. The Council's recommendation for sablefish area apportionments also takes into account the prohibition on the use of trawl gear in the Southeast Outside (SEO) District of the Eastern GOA and makes available 5 percent of the combined Eastern GOA ABCs to trawl gear for use as incidental catch in other directed groundfish fisheries in the West Yakutat District (see § 679.20(a)(4)(i)).

The AP and Council recommended that the ABC for Pacific cod in the GOA be apportioned among regulatory areas based on the three most recent NMFS' summer trawl surveys. As in previous years, the Plan Team, AP, SSC, and Council recommended that total removals of Pacific cod from the GOA not exceed ABC recommendations. Accordingly, the Council recommended that the 2005 and 2006 TACs be adjusted downward from the ABCs by amounts equal to the 2005 guideline harvest levels (GHL) established for Pacific cod by the State of Alaska (State) for fisheries that occur in State waters in the GOA. The effect of the State's GHL on the Pacific cod TAC is discussed in greater detail below. As in 2004, NMFS will establish for 2005 and 2006 an A season directed fishing allowance (DFA) for the Pacific cod fisheries in the GOA based on the management area TACs less the recent average A season incidental catch of Pacific cod in each management area before June 10 (see § 679.20(d)(1)). The DFA and incidental catch before June 10 will be managed such that total harvest in the A season will be no more than 60 percent of the annual TAC. Incidental catch taken after June 10 will continue to be taken from the B season TAC. This action meets the intent of the Steller Sea Lion Protection Measures by achieving temporal dispersion of the Pacific cod removals and by reducing the likelihood of harvest exceeding 60 percent of the annual TAC in the A season (January 1 through June 10).

The final TAC recommendations were based on the ABCs as adjusted for other biological and socioeconomic considerations, including maintaining the total TAC within the required OY range of 116,000 to 800,000 mt. The Council adopted the AP's TAC recommendations. None of the Council's recommended TACs for 2005 and 2006 exceeds the final ABC for any species or species category. NMFS finds that the recommended ABCs and TACs are consistent with the biological condition of the groundfish stocks as described in the 2004 SAFE report and approved by the Council.

Tables 1 and 2 list the final 2005 and 2006 OFL, ABC, TAC, and area apportionments of groundfish in the GOA. The sum of 2005 and of 2006 ABCs for all assessed groundfish are 539,263 and 542,456 mt respectively, which are higher than the 2004 ABC total of 507,092 mt (69 FR 26320, May 12, 2004). The apportionment of TAC amounts among gear types, processing sectors, and seasons is discussed below.

Specification and Apportionment of TAC Amounts

The Council recommended TACs for 2005 and 2006 that are equal to ABCs for pollock, deep-water flatfish, rex sole, sablefish, Pacific ocean perch, shortraker rockfish, rougheye rockfish, northern rockfish, pelagic shelf rockfish, thornyhead rockfish, demersal shelf rockfish, big skate, longnose skate, other skates, and Atka mackerel. The Council recommended TACs that are less than the ABCs for Pacific cod, flathead sole, shallow-water flatfish, arrowtooth flounder, and other rockfish.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (see §§ 693.23(d)(2)(i) through (iv) and 679.20(a)(5)(iii)(B)).

The 2005 and 2006 Pacific cod TACs are affected by the State's developing fishery for Pacific cod in State waters in the Central and Western GOA, as well as in Prince William Sound (PWS). The SSC, AP, and Council recommended that the sum of all State and Federal water Pacific cod removals not exceed the ABC. Accordingly, the Council recommended the 2005 and 2006 Pacific cod TACs be reduced from ABC levels to account for State GHLs in each regulatory area of the GOA. Therefore, the 2005 TACs are reduced from ABCs as follows: (1) Eastern GOA, 407 mt; (2) Central GOA, 8,031 mt; and (3) Western GOA, 5,229 mt. Similarly, the 2006 TACs are reduced from ABCs as follows: (1) Eastern GOA, 358 mt; (2) Central GOA, 7,063 mt; and (3) Western GOA, 4,599 mt. These amounts reflect the sum of the State's 2005 GHLs in these areas, which are 10 percent, 24.25 percent, and 25 percent of the Eastern, Central, and Western GOA ABCs, respectively. The percentages of ABC used to calculate the GHLs for the State managed Pacific cod fisheries are unchanged from 2004.

NMFS also is establishing seasonal apportionments of the annual Pacific cod TAC in the Western and Central Regulatory Areas. Sixty percent of the annual TAC is apportioned to the A season for hook-and-line, pot and jig gear from January 1 through June 10, and for trawl gear from January 20 through June 10. Forty percent of the annual TAC is apportioned to the B season for hook-and-line, pot and jig gear from September 1 through December 31, and for trawl gear from September 1 through November 1 (see §§ 679.23(d)(3) and 679.20(a)(11)). These seasonal apportionments of the annual Pacific cod TAC are discussed in greater detail below.

The FMP specifies that the TAC amount for the “other species” category is calculated as 5 percent of the combined TAC amounts for target species. The 2005 GOA-wide “other species” TAC is 13,871 mt, and the 2006 TAC is 13,525 mt, which is 5 percent of the sum of the combined TAC amounts (277,427 mt for 2005 and 270,498 mt for 2006) for the target species. The sum of the TACs for all GOA groundfish is 291,298 mt for 2005 and 284,023 mt for 2006, which is within the OY range specified by the FMP. The sums of the 2005 and 2006 TACs are higher than the 2004 TAC sum of 271,776 mt (69 FR 26320, May 12, 2004).

NMFS finds that the Council's recommendations for OFL, ABC, and TAC amounts are consistent with the biological condition of groundfish stocks as adjusted for other biological and socioeconomic considerations, including maintaining the total TAC within the required OY range of 116,000 to 800,000 mt. NMFS has reviewed the Council's recommended TAC specifications and apportionments and hereby approves these specifications under § 679.20(c)(3)(ii). The final 2005 and 2006 ABCs, TACs, and OFLs are shown in Tables 1 and 2.

Changes From the Proposed 2005 and 2006 Harvest Specifications in the GOA

In October 2004, the Council's recommendations for the proposed 2005 and 2006 harvest specifications (69 FR 70605, December 7, 2004) were based largely upon information contained in the final 2003 SAFE report for the GOA groundfish fisheries, dated November 2003. The Council recommended that OFLs and ABCs for stocks in tiers 1 through 3, except for pollock, be based on biomass projections as set forth in the 2003 SAFE report and estimates of groundfish harvests through the 2004 and 2005 fishing years. For stocks in tiers 4 through 6, for which projections could not be made, the Council recommended that OFL and ABC levels be unchanged from 2004 until the final 2004 SAFE report could be completed.

The final 2004 SAFE report (dated November 2004), which was not available when the Council made its recommendations in October 2004, contains the best and most recent scientific information on the condition of the groundfish stocks and was considered in December by the Council in making its recommendations for the final 2005 and 2006 harvest specifications. Based on the final 2004 SAFE report, the sum of the 2005 recommended final TACs for the GOA (291,298 mt) is 27,033 mt more than the proposed sum of TACs (264,265 mt), representing a 10-percent increase overall. The largest increases occurred for pollock, from 71,260 mt to 91,710 mt (29 percent increase); for sablefish, from 13,392 mt to 15,940 mt (19 percent increase); and for deep-water flatfish, from 6,070 mt to 6,820 mt (12 percent increase). The largest decrease occurred for demersal shelf rockfish, from 450 mt to 410 mt (9 percent decrease). Other increases or decreases in both 2005 and 2006 are within these ranges.

The 2005 and 2006 final TAC recommendations for the GOA are within the OY range established for the GOA and do not exceed ABCs for any single species or complex. Compared to the proposed 2005 and 2006 harvest specifications, the Council's final 2005 and 2006 TAC recommendations increase fishing opportunities for species for which the Council had sufficient information to raise TAC levels. These include, pollock, sablefish, and deep-water flatfish. Conversely, the Council reduced TAC levels to provide greater protection for several species; these include Pacific cod, shortraker rockfish, rougheye rockfish, demersal shelf rockfish, and skates. The Council also further divided the TACs of two species categories among individual species (shortraker and rougheye rockfish and big and longnose skates). The intent of this action is to provide greater protection for those individual species that are most sought after within their species categories, most notably shortraker rockfish and big skates. The changes recommended by the Council for the 2005 and 2006 fishing years were based on the best scientific information available, consistent with National Standard 2 of the Magnuson-Stevens Act, and within a reasonable range of variation from the proposed TAC recommendations so that the affected public was fairly apprized and could have made meaningful comments.

Table 1.—Final 2005 ABCs, TACs, and Overfishing Levels of Groundfish for the Western/Central/West Yakutat (W/C/WYK), Western (W), Central (C), Eastern (E) Regulatory Areas, and in the West Yakutat (WYK), Southeast Outside (SEO), and Gulfwide (GW) Districts of the Gulf of Alaska\1\
[Values are Rounded to the Nearest Metric Ton.]
Totals | Species | Area ¹ | ABC | TAC | Overfishing level
| Pollock ² | Shumagin (610) | 30,380 | 30,380 |
|  | Chirikof (620) | 34,404 | 34,404 |
|  | Kodiak (630) | 18,718 | 18,718 |
|  | WYK (640) | 1,688 | 1,688 |
Subtotal |  | W/C/WYK | 85,190 | 85,190 | 144,340
|  | SEO (650) | 6,520 | 6,520 | 8,690
Total |  |  | 91,710 | 91,710 | 153,030
| Pacific cod ³ | W | 20,916 | 15,687 |
|  | C | 33,117 | 25,086
|  | E | 4,067 | 3,660 |
Total |  |  | 58,100 | 44,433 | 86,200
| Flatfish ⁴ (deep-water) | W | 330 | 330 |
|  | C | 3,340 | 3,340 |
|  | WYK | 2,120 | 2,120 |
|  | SEO | 1,030 | 1,030 |
Total |  |  | 6,820 | 6,820 | 8,490
| Rex sole | W | 1,680 | 1,680 |
|  | C | 7,340 | 7,340 |
|  | WYK | 1,340 | 1,340 |
|  | SEO | 2,290 | 2,290 |
Total |  |  | 12,650 | 12,650 | 16,480
| Flathead sole | W | 11,690 | 2,000 |
|  | C | 30,020 | 5,000 |
|  | WYK | 3,000 | 3,000 |
|  | SEO | 390 | 390 |
Total |  |  | 45,100 | 10,390 | 56,500
| Flatfish ⁵ (shallow-water) | W | 21,580 | 4,500 |
|  | C | 27,250 | 13,000 |
|  | WYK | 2,030 | 2,030 |
|  | SEO | 1,210 | 1,210 |
Total |  |  | 52,070 | 20,740 | 63,840
| Arrowtooth flounder | W | 26,250 | 8,000 |
|  | C | 168,950 | 25,000 |
|  | WYK | 11,790 | 2,500 |
|  | SEO | 9,910 | 2,500 |
Total |  |  | 216,900 | 38,000 | 253,900
| Sablefish ⁶ | W | 2,540 | 2,540 |
|  | C | 7,250 | 7,250 |
|  | WYK | 2,580 | 2,580 |
|  | SEO | 3,570 | 3,570 |
Subtotal |  | E | 6,150 | 6,150 |
Total |  |  | 15,940 | 15,940 | 19,280
| Pacific ocean perch ⁷ | W | 2,567 | 2,567 | 3,076
|  | C | 8,535 | 8,535 | 10,226
|  | WYK | 841 | 841 |
|  | SEO | 1,632 | 1,632 |
Subtotal |  | E |  |  | 2,964
Total |  |  | 13,575 | 13,575 | 16,266
| Shortraker rockfish ⁸ | W | 155 | 155 |
|  | C | 324 | 324 |
|  | E | 274 | 274 |
Total |  |  | 753 | 753 | 982
| Rougheye rockfish ⁹ | W | 188 | 188 |
|  | C | 557 | 557 |
|  | E | 262 | 262 |
Total |  |  | 1,007 | 1,007 | 1,531
| Other rockfish ¹⁰, ¹¹ | W | 40 | 40 |
|  | C | 300 | 300 |
|  | WYK | 130 | 130 |
|  | SEO | 3,430 | 200 |
Total |  |  | 3,900 | 670 | 5,150
| Northern rockfish ¹⁰, ¹¹, ¹² | W | 808 | 808 |
|  | C | 4,283 | 4,283 |
|  | E | 0 | 0 |
Total |  |  | 5,091 | 5,091 | 6,050
| Pelagic shelf rockfish ¹³ | W | 377 | 377 |
|  | C | 3,067 | 3,067 |
|  | WYK | 211 | 211 |
|  | SEO | 898 | 898 |
Total |  |  | 4,553 | 4,553 | 5,680
| Thornyhead rockfish | W | 410 | 410 |
|  | C | 1,010 | 1,010 |
|  | E | 520 | 520 |
Total |  |  | 1,940 | 1,940 | 2,590
| Big skates ¹⁴ | W | 727 | 727 |
|  | C | 2,463 | 2,463 |
|  | E | 809 | 809 |
Total |  |  | 3,999 | 3,999 | 5,332
| Longnose skates ¹⁵ | W | 66 | 66 |
|  | C | 1,972 | 1,972 |
|  | E | 780 | 780 |
Total |  |  | 2,818 | 2,818 | 3,757
| Other skates ¹⁶ | GW | 1,327 | 1,327 | 1,769
| Demersal shelf rockfish ¹⁸ | SEO | 410 | 410 | 640
| Atka mackerel | GW | 600 | 600 | 6,200
| Other species ¹⁷, ¹⁹ | GW | N/A | 13,871 | N/A
Total ²⁰ |  |  | 539,263 | 291,298 | 713,667
¹ Regulatory areas and districts are defined at § 679.2.
² Pollock is apportioned in the Western/Central Regulatory Areas among three statistical areas. During the A season, the apportionment is based on an adjusted estimate of the relative distribution of pollock biomass of approximately 24 percent, 56 percent, and 20 percent in Statistical Areas 610, 620, and 630, respectively. During the B season, the apportionment is based on the relative distribution of pollock biomass at 24 percent, 66 percent, and 10 percent in Statistical Areas 610, 620, and 630, respectively. During the C and D seasons, the apportionment is based on the relative distribution of pollock biomass at 49 percent, 21 percent, and 30 percent in Statistical Areas 610, 620, and 630, respectively. These seasonal apportionments for 2005 and 2006 are shown in Tables 5 and 6. In the West Yakutat and Southeast Outside Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component. Seasonal apportionments and component allocations of TAC for 2005 and 2006 are shown in Tables 7 and 8.
⁴ “Deep water flatfish” means Dover sole, Greenland turbot, and deepsea sole.
⁵ “Shallow water flatfish” means flatfish not including “deep water flatfish”, flathead sole, rex sole, or arrowtooth flounder.
⁶ Sablefish is allocated to trawl and hook-and-line gears for 2005 and 2006 and these amounts are shown in Tables 3 and 4.
⁷ “Pacific ocean perch” means Sebastes alutus.
⁸ “Shortraker rockfish” means Sebastes borealis.
⁹ “Rougheye rockfish” means Sebastes aleutianus.
¹⁰ “Other rockfish” in the Western and Central Regulatory Areas and in the West Yakutat District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinis.
¹² “Northern rockfish” means Sebastes polyspinis.
¹³ “Pelagic shelf rockfish” means Sebastes ciliatus (dark), S. variabilis (dusky), S. entomelas (widow), and S. flavidus (yellowtail).
¹⁴ Big skate means Raja binoculata.
¹⁵ Longnose skate means Raja rhina.
¹⁶ Other skates means Bathyraja spp.
¹⁷ N/A means not applicable.
¹⁸ “Demersal shelf rockfish” means Sebastes pinniger (canary), S. nebulosus (china), S. caurinus (copper), S. maliger (quillback), S. helvomaculatus (rosethorn), S. nigrocinctus (tiger), and S. ruberrimus (yelloweye).
¹⁹ “Other species” means sculpins, sharks, squid, and octopus. There is no OFL or ABC for “other species”, the TAC for “other species” equals 5 percent of the TACs for assessed target species.
²⁰ The total ABC and OFL is the sum of the ABCs and OFLs for assessed target species.

These footnotes also apply to Table 2.

Table 2.—Final 2006 ABCs, TACs, and Overfishing Levels of Groundfish for the Western/Central/West Yakutat (W/C/WYK), Western (W), Central (C), Eastern (E) Regulatory Areas, and in the West Yakutat (WYK), Southeast Outside (SEO), and Gulfwide (GW) Districts of the Gulf of Alaska\1\
[Values are rounded to the nearest metric ton.]
Total | Species | Area ¹ | ABC | TAC | Overfishing level
| Pollock ² | Shumagin (610) | 30,452 | 30,452 |
|  | Chirikof (620) | 34,485 | 34,485 |
|  | Kodiak (630) | 18,762 | 18,762 |
|  | WYK (640) | 1,691 | 1,691 |
Subtotal |  | W/C/WYK | 85,390 | 85,390 | 103,250
|  | SEO (650) | 6,520 | 6,520 | 8,690
Total |  |  | 91,910 | 91,910 | 111,940
| Pacific cod ³ | W | 18,396 | 13,797 |
|  | C | 29,127 | 22,064 |
|  | E | 3,557 | 3,219 |
Total |  |  | 51,100 | 39,080 | 65,800
| Flatfish ⁴ (deep-water) | W | 330 | 330 |
|  | C | 3,340 | 3,340 |
|  | WYK | 2,120 | 2,120 |
|  | SEO | 1,030 | 1,030 |
Total |  |  | 6,820 | 6,820 | 8,490
| Rex sole | W | 1,680 | 1,680 |
|  | C | 7,340 | 7,340 |
|  | WYK | 1,340 | 1,340 |
|  | SEO | 2,290 |  | 2,290
Total |  |  | 12,650 | 12,650 | 16,480
| Flathead sole | W | 11,111 | 2,000 |
|  | C | 28,527 | 5,000 |
|  | WYK | 2,842 | 2,842 |
|  | SEO | 370 | 370 |
Total |  |  | 42,850 | 10,212 | 53,800
| Flatfish ⁵ (shallow-water) | W | 21,580 | 4,500 |
|  | C | 27,250 | 13,000 |
|  | WYK | 2,030 | 2,030 |
|  | SEO | 1,210 | 1,210 |
Total |  |  | 52,070 | 20,740 | 63,840
| Arrowtooth flounder | W | 27,924 | 8,000 |
|  | C | 179,734 | 25,000 |
|  | WYK | 12,539 | 2,500 |
|  | SEO | 10,543 | 2,500 |
Total |  |  | 230,740 | 38,000 | 270,050
| Sablefish ⁶ | W | 2,407 | 2,407 |
|  | C | 6,870 | 6,870 |
|  | WYK | 2,445 | 2,445 |
|  | SEO | 3,383 | 3,383 |
Subtotal |  | E | 5,828 | 5,828 |
Total |  |  | 15,105 | 15,105 | 17,530
| Pacific ocean perch ⁷ | W | 2,525 | 2,525 | 3,019
|  | C | 8,375 | 8,375 | 10,008
|  | WYK | 813 | 813 |
|  | SEO | 1,579 | 1,579 |
Subtotal |  | E |  |  | 2,860
Total |  |  | 13,292 | 13,292 | 15,887
| Shortraker rockfish ⁸ | W | 155 | 155 |
|  | C | 324 | 324 |
|  | E | 274 | 274 |
Total |  |  | 753 | 753 | 982
| Rougheye rockfish ⁹ | W | 188 | 188 |
|  | C | 557 | 557 |
|  | E | 262 | 262 |
Total |  |  | 1,007 | 1,007 | 1,531
| Other rockfish 10 11 | W | 40 | 40 |
|  | C | 300 | 300 |
|  | WYK | 130 | 130 |
|  | SEO | 3,430 | 200 |
Total |  |  | 3,900 | 670 | 5,150
| Northern rockfish 11 12 | W | 755 | 755 |
|  | C | 3,995 | 3,995 |
|  | E | 0 | 0 |
Total |  |  | 4,750 | 4,750 | 5,640
| Pelagic shelf rockfish ¹³ | W | 366 | 366 |
|  | C | 2,973 | 2,973 |
|  | WYK | 205 | 205 |
|  | SEO | 871 | 871 |
Total |  |  | 4,415 | 4,415 | 5,510
| Thornyhead rockfish | W | 410 | 410 |
|  | C | 1,010 | 1,010 |
|  | E | 520 |  | 520
Total |  |  | 1,940 | 1,940 | 2,590
| Big skates ¹⁴ | W | 727 | 727 |
|  | C | 2,463 | 2,463 |
|  | E | 809 | 809 |
Total |  |  | 3,999 | 3,999 | 5,332
| Longnose skates ¹⁵ | W | 66 | 66 |
|  | C | 1,972 | 1,972 |
|  | E | 780 | 780 |
Total |  |  | 2,818 | 2,818 | 3,757
| Other skates ¹⁶ | GW | 1,327 | 1,327 | 1,769
| Demersal shelf rockfish ¹⁸ | SEO | 410 | 410 | 640
| Atka mackerel | GW | 600 | 600 | 6,200
| Other species 17 19 | GW | N/A | 13,525 | N/A
Total ²⁰ |  |  | 542,456 | 284,023 | 622,918

The footnotes in Table 2 are identical to those presented in Table 1.

Apportionment of Reserves

Regulations at § 679.20(b)(2) require 20 percent of each TAC for pollock, Pacific cod, flatfish, and the “other species” category be set aside in reserves for possible apportionment at a later date. In 2004, NMFS reapportioned all of the reserves in the final harvest specifications. NMFS proposed reapportionment of all the reserves for 2005 and 2006 in the proposed GOA groundfish specifications published in the Federal Register on December 7, 2004 (69 FR 70605). NMFS received no public comments on the proposed reapportionments. For the final 2005 and 2006 GOA harvest specifications, NMFS has reapportioned all of the reserves for pollock, Pacific cod, flatfish, and “other species.” Specifications of TAC shown in Tables 1 and 2 reflect apportionment of reserve amounts for these species and species groups.

Allocations of the Sablefish TAC Amounts to Vessels Using Hook-and-Line and Trawl Gear

Under § 679.20(a)(4)(i) and (ii), sablefish TACs for each of the regulatory areas and districts are allocated to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (see § 679.20(a)(1)). In recognition of the trawl ban in the SEO District of the Eastern Regulatory Area, the Council recommended and NMFS concurs that 5 percent of the combined Eastern GOA sablefish TAC be allocated to trawl gear in the WYK District and the remainder to vessels using hook-and-line gear. In the SEO District, 100 percent of the sablefish TAC is allocated to vessels using hook-and-line gear. The Council recommended that only trawl sablefish TAC be established biennially. This recommendation results in an allocation of 307 mt to trawl gear and 2,273 mt to hook-and-line gear in the WYK District and 3,570 mt to hook-and-line gear in the SEO District in 2005, and 291 mt to trawl gear in the WYK District in 2006. Tables 3 and 4 show the allocations of the final 2005 and 2006 sablefish TACs between hook-and-line and trawl gear.

Table 3.—Final 2005 Sablefish TAC Specifications in the Gulf of Alaska and Allocations Thereof to Hook-and-Line and Trawl Gear (Values are rounded to the nearest metric ton.)
Area/District | TAC | Hook-and-line apportionment | Trawl apportionment
Western | 2,540 | 2,032 | 508
Central | 7,250 | 5,800 | 1,450
West Yakutat | 2,580 | 2,273 | 307
Southeast Outside | 3,570 | 3,570 | 0
Total | 15,940 | 13,675 | 2,265

Table 4.—Final 2006 Sablefish TAC Specifications in the Gulf of Alaska and Allocations Thereof to Trawl Gear (Values are rounded to the nearest metric ton.)
Area/District | TAC | Hook-and-line apportionment ¹ | Trawl apportionment
Western | 2,407 |  | 481
Central | 6,870 |  | 1,374
West Yakutat | 2,445 |  | 291
Southeast Outside | 3,383 |  | 0
Total | 15,105 |  | 2,146
¹ The Council recommended that specifications for the hook-and-line gear sablefish IFQ fisheries be limited to 1 year.

Apportionments of Pollock TAC Among Seasons and Regulatory Areas, and Allocations for Processing by Inshore and Offshore Components

In the GOA, pollock is apportioned by season and area, and is further allocated for processing by inshore and offshore components. Under regulations at § 679.20(a)(5)(iii)(B), the annual pollock TAC specified for the Western and Central Regulatory Areas of the GOA is apportioned into four equal seasonal allowances of 25 percent. As established by § 679.23(d)(2)(i) through (iv), the A, B, C, and D season allowances are available from January 20 through March 10, from March 10 through May 31, from August 25 through October 1, and from October 1 through November 1, respectively.

Pollock TACs in the Western and Central Regulatory Areas of the GOA in the A and B seasons are apportioned among Statistical Areas 610, 620, and 630, in proportion to the distribution of pollock biomass as determined by a composite of NMFS’ winter surveys and in the C and D seasons in proportion to the distribution of pollock biomass as determined by the four most recent NMFS summer surveys. As in 2004, the Council recommended that, during the A season, the winter and summer distribution of pollock be averaged in the Central Regulatory Area to better reflect the distribution of pollock and the performance of the fishery in the area during the A season for the 2005 and 2006 fishing years. Within any fishing year, the underage or overage of a seasonal allowance may be added to or subtracted from subsequent seasonal allowances in a manner to be determined by the Regional Administrator, provided that any rollover amount of unharvested pollock would be limited to 20 percent of the seasonal apportionment for the statistical area. Any unharvested pollock above the 20-percent limit could be further distributed to the other statistical areas, in proportion to the estimated biomass in the subsequent season in those statistical areas (§ 679.20(a)(5)(iii)(B)). Because the harvest of pollock is apportioned among four seasons, the 20-percent seasonal apportionment rollover limit would be equivalent annually to the 30-percent annual rollover limit in effect for the 2004 Western and Central pollock fisheries. The WYK and SEO District pollock TACs of 1,688 mt and 6,520 mt in 2005 and 1,691 mt and 6,520 mt in 2006, respectively, are not allocated by season.

Section 679.20(a)(6)(i) requires that 100 percent of the pollock TAC in all regulatory areas and all seasonal allowances be allocated to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed under regulations at § 679.20(e) and (f). At this time, these incidental catch amounts are unknown and will be determined during the fishing year.

The seasonal biomass distribution of pollock in the Western and Central Regulatory Areas, area apportionments, and seasonal apportionments for the A, B, C, and D seasons for 2005 and 2006 are summarized in Tables 5 and 6, except that amounts of pollock for processing by the inshore and offshore components are not shown.

Table 5.—Final 2005 Distribution of Pollock in the Central and Western Regulatory Areas of the Gulf of Alaska; Seasonal Biomass Distribution, Area Apportionments; and Seasonal Allowances of Annual TAC (Values are rounded to the nearest metric ton.)
[Area Apportionments Resulting From Seasonal Distribution of Biomass]
Season | Shumagin (Area 610) | Chirikof (Area 620) | Kodiak (Area 630) | Total
A | 5,035 (24.12%) | 11,692 (56.01%) | 4,148 (19.87%) | 20,875 (100%)
B | 5,035 (24.12%) | 13,820 (66.2%) | 2,021 (9.68%) | 20,876 (100%)
C | 10,155 (48.64%) | 4,446 (21.3%) | 6,274 (30.06%) | 20,875 (100%)
D | 10,155 (48.64%) | 4,446 (21.3%) | 6,275 (30.06%) | 20,876 (100%)
Annual Total | 30,380 | 34,404 | 18,718 | 83,502

Table 6.—Final 2006 Distribution of Pollock in the Central and Western Regulatory Areas of the Gulf of Alaska; Seasonal Biomass Distribution, Area Apportionments; and Seasonal Allowances of Annual TAC (Values are rounded to the nearest metric ton.)
[Area Apportionments Resulting From Seasonal Distribution of Biomass]
Season | Shumagin (Area 610) | Chirikof (Area 620) | Kodiak (Area 630) | Total
A | 5,047 (24.12%) | 11,719 (56.01%) | 4,159 (19.87%) | 20,925 (100%)
B | 5,047 (24.12%) | 13,852 (66.2%) | 2,026 (9.68%) | 20,925 (100%)
C | 10,179 (48.64%) | 4,457 (21.3%) | 6,289 (30.06%) | 20,925 (100%)
D | 10,179 (48.64%) | 4,457 (21.3%) | 6,288 (30.06%) | 20,924 (100%)
Annual Total | 30,452 | 34,485 | 18,762 | 83,699

Seasonal Apportionments of Pacific Cod TAC and Allocations for Processing of Pacific Cod TAC Between Inshore and Offshore Components

Pacific cod fishing is divided into two seasons in the Western and Central Regulatory Areas of the GOA. For hook-and-line, pot and jig gear, the A season begins on January 1 and ends on June 10, and the B season begins on September 1 and ends on December 31. For trawl gear, the A season begins on January 20 and ends on June 10, and the B season begins on September 1 and ends on November 1 (§ 679.23(d)(3)). After subtraction of incidental catch needs by the inshore and offshore components in other directed fisheries through the A season ending June 10, 60 percent of the annual TAC will be available as a directed fishing allowance during the A season for the inshore and offshore components. The remaining 40 percent of the annual TAC will be available for harvest during the B season and will be apportioned between the inshore and offshore components, as provided in § 679.20(a)(6)(ii). Any amount of the A season apportionment of Pacific cod TAC under or over harvested will be added to or subtracted from the B season apportionment of Pacific cod TAC (see § 679.20(a)(11)(ii)). For purposes of clarification, NMFS points out that the dates for the A season and the B season Pacific cod fishery differ from those of the A, B, C, and D seasons for the pollock fisheries.

Section 679.20(a)(6)(ii) requires that the TAC apportionment of Pacific cod in all regulatory areas be allocated to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the 2005 and 2006 Pacific cod TACs are shown in Tables 7 and 8, respectively.

Table 7.—Final 2005 Seasonal Apportionments and Allocation of Pacific Cod TAC Amounts in the Gulf of Alaska; Allocations for Processing by the Inshore and Offshore Components (Values are rounded to the nearest metric ton.)
[Area Apportionments Resulting From Seasonal Distribution of Biomass]
Season | Regulatory area | TAC | Component allocation: Inshore (90%) | Component allocation: Offshore (10%)
| Western | 15,687 | 14,118 | 1,569
A season (60%) |  | 9,412 | 8,471 | 941
B season (40%) |  | 6,275 | 5,647 | 628
| Central | 25,086 | 22,577 | 2,509
A season (60%) |  | 15,052 | 13,547 | 1,505
B season (40%) |  | 10,034 | 9,031 | 1,003
| Eastern | 3,660 | 3,294 | 366
Total |  | 44,433 | 39,989 | 4,444

Table 8.—Final 2006 Seasonal Apportionments and Allocation of Pacific Cod TAC Amounts in the Gulf of Alaska; Allocations for Processing by the Inshore and Offshore Components
[Values are rounded to the nearest metric ton.]
Season | Regulatory area | TAC | Component allocation: Inshore (90%) | Component allocation: Offshore (10%)
| Western | 13,797 | 12,417 | 1,380
A season (60%) |  | 8,278 | 7,450 | 828
B season (40%) |  | 5,519 | 4,967 | 552
| Central | 22,064 | 19,858 | 2,206
A season (60%) |  | 13,238 | 11,914 | 1,324
B season (40%) |  | 8,826 | 7,944 | 882
| Eastern | 3,219 | 2,897 | 322
Total |  | 39,080 | 35,172 | 3,908

Demersal Shelf Rockfish

NMFS reminds all fishermen that full retention of all demersal shelf rockfish (DSR) by federally permitted catcher vessels using hook-and-line or jig gear fishing for groundfish and Pacific halibut in the SEO District of the GOA is now required (see § 679.20(j)). NMFS has published a final rule (69 FR 68095, November 23, 2004) implementing this regulation effective December 23, 2004.

Halibut PSC Limits

In accordance with regulations at § 679.21(d), annual halibut PSC limits are established and apportioned to trawl and hook-and-line gear and may be established for pot gear. In December 2004, the Council recommended that NMFS maintain the 2004 halibut PSC limits of 2,000 mt for the trawl fisheries and of 300 mt for the hook-and-line fisheries, with 10 mt of the hook-and-line limit allocated to the DSR fishery in the SEO District and the remainder to the remaining hook-and-line fisheries for each of the 2005 and 2006 groundfish fisheries. Historically, the DSR fishery, defined at § 679.21(d)(4)(iii)(A), has been apportioned this amount in recognition of its small scale harvests. Although observer data are not available to verify actual bycatch amounts, given most vessels in the DSR fishery are less than 60 ft (18.3 m) length overall (LOA) and thus are exempt from observer coverage, halibut bycatch in the DSR fishery is assumed to be low because of the short soak times for the gear and duration of the DSR fishery. Also, the DSR fishery occurs in the winter when less overlap occurs in the distribution of DSR and halibut.

Section 679.21(d)(4)(iii)(A) authorizes the exemption of specified non-trawl fisheries from the halibut PSC limit. The Council recommended that pot gear, jig gear, and the hook-and-line sablefish fishery be exempted from the non-trawl halibut limit for 2005 and 2006. The Council recommended these exemptions because: (1) The pot gear fisheries experience low annual halibut bycatch mortality (averaging 11 mt annually from 2001 through 2004); (2) the Individual Fishing Quota (IFQ) program requires legal-sized halibut to be retained by vessels using hook-and-line gear if a halibut IFQ permit holder is aboard and is holding unused halibut IFQ; and (3) halibut mortality for the jig gear fleet cannot be estimated because these vessels do not carry observers. Halibut mortality is assumed to be very low, given the small amount of groundfish harvested annually by jig gear (averaging 318 mt annually from 2001 through 2004), and survival rates of any halibut incidentally caught by jig gear and released are assumed to be high.

Under § 679.21(d)(5), NMFS seasonally apportions the halibut PSC limits based on recommendations from the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2004 groundfish and PSC specifications (69 FR 9261, February 27, 2004) summarized the Council's and NMFS’ findings with respect to each of the FMP considerations set forth here. At this time, the Council's and NMFS’ findings are unchanged from those set forth in 2004. The opening date for the third seasonal allowance of the trawl halibut PSC limit and the start date for directed fishing for rockfish by trawl gear is July 5 in 2005 and 2006. This date will facilitate inseason management of the rockfish fisheries and reduce the effect of the rockfish fisheries on the annual NMFS sablefish survey which occurs later in July.

NMFS concurs with the Council's recommendations described here and listed in Table 9. Section 679.21, paragraphs (d)(5)(iii) and (iv) specify that any underages or overages in a seasonal apportionment of a PSC limit will be deducted from or added to the next respective seasonal apportionment within the 2005 and 2006 fishing years. When establishing the halibut PSC limits, the following types of information were considered as presented in, or summarized from, the 2004 SAFE report, or as otherwise available from NMFS, Alaska Department of Fish and Game, the International Pacific Halibut Commission (IPHC) or public testimony.

Estimated Halibut Bycatch in Prior Years

The best available information on estimated halibut bycatch is data collected by observers during 2004. The calculated halibut bycatch mortality by trawl, hook-and-line, and pot gear through December 31, 2004, is 2,256 mt, 296 mt, and 24 mt, respectively, for a total halibut mortality of 2,576 mt.

Halibut bycatch restrictions seasonally constrained trawl gear fisheries during the 2004 fishing year. Trawling closed during the fourth season for the shallow-water complex on September 10 (69 FR 55783, September 16, 2004), trawling closed during the first season for the deep-water fishery complex on March 19 (69 FR 12980, March 19, 2004), during the second season on April 26 (69 FR 23450, April 29, 2004), during the third and fourth seasons on July 25 (69 FR 44973, July 28, 2004), and during the fifth season for all trawling for the remainder of the year on October 1 (69 FR 57655, September 27, 2004). The use of hook-and-line gear for groundfish other than DSR and sablefish closed during the third season for the remainder of the year on October 2 (69 FR 59835, October 6, 2004).

The amount of groundfish that trawl and hook-and-line gear might have harvested if halibut PSC limitations had not restricted the season in 2004 is unknown.

Expected Changes in Groundfish Stocks

In December 2004, the Council adopted higher ABCs for pollock (2005 and 2006), deep-water flatfish (2005 and 2006), arrowtooth flounder (2005 and 2006), Pacific ocean perch (2005), northern rockfish (2005), and pelagic shelf rockfish (2005) than those established for 2004. The Council adopted lower ABCs for Pacific cod (2005 and 2006), flathead sole (2005 and 2006), sablefish (2005 and 2006), Pacific ocean perch (2006), northern rockfish (2006), pelagic shelf rockfish (2006), and demersal shelf rockfish (2005 and 2006) than those established for 2004. For the remaining targets, the Council recommended that ABC levels remain unchanged from 2004. More information on these changes is included in the final SAFE report (November 2004) and in the Council and SSC December 2004 meeting minutes.

Expected Changes in Groundfish Catch

The total TAC amounts for the GOA are 291,298 mt for 2005, and 284,023 mt for 2006, an increase of about 10 percent in 2005 and about 7 percent in 2006 from the 2004 TAC total of 271,776 mt. Those fisheries for which the 2005 and 2006 TACs are lower than in 2004 are Pacific cod (decreased to 44,433 mt in 2005 and 39,080 mt in 2006 from 48,033 mt in 2004), flathead sole (decreased to 10,390 mt in 2005 and 10,212 mt in 2006 from 10,880 mt in 2004), sablefish (decreased to 15,940 mt in 2005 and 15,105 mt in 2006 from 16,550 mt in 2004), northern rockfish (decreased to 4,750 mt in 2006 from 4,870 mt in 2004), pelagic shelf rockfish (decreased to 4,415 mt in 2006 from 4,470 mt in 2004), and demersal shelf rockfish (decreased to 410 mt in 2005 and 2006 from 450 mt in 2004). Those fisheries for which the 2005 or 2006 TACs are higher than in 2004 are pollock (increased to 91,710 mt in 2005 and 91,910 mt in 2006 from 71,260 mt in 2004), deep-water flatfish (increased to 6,820 mt in 2005 and 2006 from 6,070 mt in 2004), Pacific ocean perch (increased to 13,575 mt in 2005 and decreased to 13,292 mt in 2006 from 13,340 mt in 2004), northern rockfish (increased to 5,091 mt in 2005 from 4,870 mt in 2004), pelagic shelf rockfish (increased to 4,553 mt in 2005 from 4,470 mt in 2004), and “other species” (increased to 13,871 mt in 2005 and 13,525 mt in 2006 from 12,942 mt in 2004).

Current Estimates of Halibut Biomass and Stock Condition

The most recent halibut stock assessment was conducted by the IPHC in December 2003. The halibut resource is considered to be healthy, with total catch near record levels. The current exploitable halibut biomass in Alaska for 2004 was estimated to be 215,912 mt.

The exploitable biomass of the Pacific halibut stock apparently peaked at 326,520 mt in 1988. According to the IPHC, the long-term average reproductive biomass for the Pacific halibut resource was estimated at 118,000 mt. Long-term average yield was estimated at 26,980 mt, round weight. The species is fully utilized. Recent average catches (1994-2003) in the commercial halibut fisheries in Alaska have averaged 34,100 mt, round weight. This catch in Alaska is 26 percent higher than the long-term potential yield for the entire halibut stock, which reflects the good condition of the Pacific halibut resource. In December 2004, IPHC staff made preliminary recommendations for commercial catch limits totaling 35,822 mt (round weight equivalents) for Alaska in 2005. Through December 31, 2004, commercial hook-and-line harvests of halibut in Alaska totaled 34,610 mt (round weight equivalents).

In making catch limit recommendations for 2005, IPHC staff have considered the results of the analytic stock assessment, changes in the commercial and survey results used to monitor the stock, recruitment of incoming year classes, and an updated analysis of an appropriate harvest strategy. Changes in the relative abundance results from information obtained from IPHC surveys and the commercial fishery, and the choice of an appropriate harvest rate were the primary factors influencing the IPHC staff's preliminary recommendations.

Additional information on the Pacific halibut stock assessment and the Conditional Constant Catch harvest policy may be found in the IPHC's 2003 Pacific halibut stock assessment (December 2003), available from the IPHC and on its Web site at http://www.iphc.washington.edu. The IPHC will consider the 2004 Pacific halibut assessment at its January 2005 annual meeting when it sets the 2005 commercial halibut fishery quotas.

Other Factors

The proposed 2005 and 2006 harvest specifications (69 FR 70605, December 7, 2004) discuss potential impacts of expected fishing for groundfish on halibut stocks, as well as methods available for, and costs of, reducing halibut bycatch in the groundfish fisheries.

Table 9.—Final 2005 and 2006 Pacific Halibut PSC Limits, Allowances, and Apportionments
[Values are in metric tons]
Trawl gear: Dates | Trawl gear: Amount | Hook-and-line gear ¹: Other than DSR: Dates | Hook-and-line gear ¹: Other than DSR: Amount | Hook-and-line gear ¹: DSR: Dates | Hook-and-line gear ¹: DSR: Amount
January 20-April 1 | 550 (27.5%) | January 1-June 10 | 250 (86%) | January 1-December 31 | 10 (100%)
April 1-July 5 | 400 (20%) | June 10-September 1 | 5 (2%) |  |
July 5-September 1 | 600 (30%) | September 1-December 31 | 35 (12%) |  |
September 1-October 1 | 150 (7.5%) |  |  |  |
October 1-December 31 | 300 (15%) |  |  |  |
Total | 2,000 (100%) |  | 290 (100%) |  | 10 (100%)
¹ The Pacific halibut PSC limit for hook-and-line gear is allocated to the demersal shelf rockfish (DSR) fishery and fisheries other than DSR. The hook-and-line sablefish fishery is exempt from halibut PSC limits.

Section 679.21(d)(3)(ii) authorizes apportionments of the trawl halibut PSC limit to be further apportioned to trawl fishery categories, based on each category's proportional share of the anticipated halibut bycatch mortality during the fishing year and the need to optimize the total amount of groundfish harvest under the halibut PSC limit. The fishery categories for the trawl halibut PSC limits are: (1) A deep-water species complex, comprised of sablefish, rockfish, deep-water flatfish, rex sole and arrowtooth flounder; and (2) a shallow-water species complex, comprised of pollock, Pacific cod, shallow-water flatfish, flathead sole, Atka mackerel, skates, and “other species” (see § 679.21(d)(3)(iii)). The final 2005 and 2006 apportionment for these two fishery complexes is presented in Table 10.

Table 10.—Final 2005 and 2006 apportionment of Pacific Halibut PSC Trawl Limits Between the Trawl Gear Deep-Water Species Complex and the Shallow-Water Species Complex
[Values are in metric tons]
Season | Shallow-water | Deep-water | Total
January 20-April 1 | 450 | 100 | 550
April 1-July 5 | 100 | 300 | 400
July 5-September 1 | 200 | 400 | 600
September 1-October 1 | 150 | Any remainder | 150
Subtotal
January 20-October 1 | 900 | 800 | 1,700
October 1-December 31 ¹ |  |  | 300
Total |  |  | 2,000
¹ No apportionment between shallow-water and deep-water fishery complexes during the 5th season (October 1-December 31).

Halibut Discard Mortality Rates

The Council recommends and NMFS concurs that the recommended halibut discard mortality rates (DMRs) developed by the staff of the IPHC for the 2004 GOA groundfish fisheries be used to monitor halibut bycatch mortality limits established for the 2005 and 2006 GOA groundfish fisheries. The IPHC recommended use of long-term average DMRs for the 2004-2006 groundfish fisheries. The IPHC recommendation also includes a provision that DMRs could be revised should analysis indicate that a fishery's annual DMR deviates substantially (up or down) from the long-term average. Most of the IPHC's assumed DMRs were based on an average of mortality rates determined from NMFS observer data collected between 1993 and 2002. DMRs were lacking for some fisheries, in those instances rates from the most recent years were used. For the “other species” and skate fisheries, where insufficient mortality data are available, the mortality rate of halibut caught in the Pacific cod fishery for that gear type was recommended as a default rate. The DMRs proposed for 2005 and 2006 are unchanged from those used in 2004 in the GOA. The DMRs for hook-and-line targeted fisheries range from 8 to 13 percent. The DMRs for trawl targeted fisheries range from 57 to 75 percent. The DMRs for all pot targeted fisheries are 17 percent. The final DMRs for 2005 and 2006 are listed in Table 11. The justification for these DMRs is discussed in Appendix A of the final SAFE report dated November 2004.

Table 11.—Final 2005 and 2006 Halibut Discard Mortality Rates for Vessels Fishing in the Gulf of Alaska
[Listed values are percent of halibut bycatch assumed to be dead]
Gear | Target | Mortality rate
Hook-and-line | Other species | 13
| Skates | 13
| Pacific cod | 13
| Rockfish | 8
Trawl | Arrowtooth flounder | 69
| Atka mackerel | 60
| Deep-water flatfish | 57
| Flathead sole | 62
| Non-pelagic pollock | 59
| Other species | 61
| Skates | 61
| Pacific cod | 61
| Pelagic pollock | 75
| Rex sole | 62
| Rockfish | 67
| Sablefish | 62
| Shallow-water flatfish | 68
Pot | Other species | 17
| Skates | 17
| Pacific cod | 17

Non-exempt American Fisheries Act (AFA) Catcher Vessel Groundfish Harvest and PSC Sideboard Limitations

Section 679.64 established groundfish harvesting and processing sideboard limitations on AFA catcher/processors and catcher vessels in the GOA. These sideboard limitations are necessary to protect the interests of fishermen and processors who have not directly benefitted from the AFA from fishermen and processors who have received exclusive harvesting and processing privileges under the AFA. In the GOA, listed AFA catcher/processors are prohibited from harvesting any species of fish (see § 679.7(k)(1)(ii)) and from processing any pollock in the GOA and any groundfish harvested in Statistical Area 630 of the GOA (see § 679.7(k)(1)(iv)). Section 679.64(b)(2)(ii) exempts from sideboard limitation those AFA catcher vessels in the GOA less than 125 ft (38.1 m) LOA whose annual BSAI pollock landings totaled less than 5,100 mt and that made 40 or more GOA groundfish landings from 1995 through 1997.

For non-exempt AFA catcher vessels in the GOA, sideboards limitations are based on their traditional harvest levels of TAC in groundfish fisheries covered by the GOA FMP. Section 679.64(b)(3)(iii) establishes the groundfish sideboard limitations in the GOA based on the retained catch of non-exempt AFA catcher vessels of each sideboard species from 1995 through 1997 divided by the TAC for that species over the same period. These amounts are listed in Table 12 for 2005 and in Table 13 for 2006. All harvests of sideboard species made by non-exempt AFA catcher vessels, whether as targeted catch or incidental catch, will be deducted from the sideboard limits in Tables 12 and 13.

Table 12.—Final 2005 GOA Non-Exempt American Fisheries Act Catcher Vessel (CV) Groundfish Harvest Sideboard Limitations
[Values are in metric tons]
Species | Apportionments and allocations by area/season/processor/gear | Ratio of 1995-1997 non-exempt AFA CV catch to 1995-1997 TAC | 2005 TAC | 2005 non-exempt AFA catcher vessel sideboard
Pollock | A Season (W/C areas only) |  |  |
| January 20-February 25 |  |  |
| Shumagin (610) | 0.6112 | 5,035 | 3,077
| Chirikof (620) | 0.1427 | 11,692 | 1,668
| Kodiak (630) | 0.2438 | 4,148 | 1,011
| B Season (W/C areas only) |  |  |
| March 10-May 31 |  |  |
| Shumagin (610) | 0.6112 | 5,035 | 3,077
| Chirikof (620) | 0.1427 | 13,820 | 1,972
| Kodiak (630) | 0.2438 | 2,021 | 493
| C Season (W/C areas only) |  |  |
| August 25-September 15 |  |  |
| Shumagin (610) | 0.6112 | 10,155 | 6,207
| Chirikof (620) | 0.1427 | 4,446 | 634
| Kodiak (630) | 0.2438 | 6,274 | 1,530
| D Season (W/C areas only) |  |  |
| October 1-November 1 |  |  |
| Shumagin (610) | 0.6112 | 10,155 | 6,207
| Chirikof (620) | 0.1427 | 4,446 | 634
| Kodiak (630) | 0.2438 | 6,275 | 1,530
| Annual |  |  |
| WYK (640) | 0.3499 | 1,688 | 591
| SEO (650) | 0.3499 | 6,520 | 2,281
Pacific cod | A Season ¹ |  |  |
| January 1-June 10 |  |  |
| W inshore | 0.1423 | 8,471 | 1,205
| W offshore | 0.1026 | 941 | 97
| C inshore | 0.0722 | 13,547 | 978
| C offshore | 0.0721 | 1,505 | 109
| B Season ² |  |  |
| September 1-December 31 |  |  |
| W inshore | 0.1423 | 5,647 | 804
| W offshore | 0.1026 | 628 | 64
| C inshore | 0.0722 | 9,031 | 652
| C offshore | 0.0721 | 1,003 | 72
| Annual |  |  |
| E inshore | 0.0079 | 3,294 | 26
| E offshore | 0.0078 | 366 | 3
Flatfish deep-water | W | 0.0000 | 330 | 0
| C | 0.0670 | 3,340 | 224
| E | 0.0171 | 3,150 | 54
Rex sole | W | 0.0010 | 1,680 | 2
| C | 0.0402 | 7,340 | 295
| E | 0.0153 | 3,630 | 56
Flathead sole | W | 0.0036 | 2,000 | 7
| C | 0.0261 | 5,000 | 131
| E | 0.0048 | 3,390 | 16
Flatfish shallow-water | W | 0.0156 | 4,500 | 70
| C | 0.0598 | 13,000 | 777
| E | 0.0126 | 3,240 | 41
Arrowtooth flounder | W | 0.0021 | 8,000 | 17
| C | 0.0309 | 25,000 | 773
| E | 0.0020 | 5,000 | 10
Sablefish | W trawl gear | 0.0000 | 508 | 0
| C trawl gear | 0.0720 | 1,450 | 104
| E trawl gear | 0.0488 | 307 | 15
Pacific ocean perch | W | 0.0623 | 2,567 | 160
| C | 0.0866 | 8,535 | 739
| E | 0.0466 | 2,473 | 115
Shortraker rockfish | W | 0.0000 | 155 | 0
| C | 0.0237 | 324 | 8
| E | 0.0124 | 274 | 3
Rougheye rockfish | W | 0.0000 | 188 | 0
| C | 0.0237 | 557 | 13
| E | 0.0124 | 282 | 3
Other rockfish | W | 0.0034 | 40 | 0
| C | 0.2065 | 300 | 62
| E | 0.0000 | 330 | 0
Northern rockfish | W | 0.0003 | 808 | 0
| C | 0.0336 | 4,283 | 144
Pelagic shelf rockfish | W | 0.0001 | 377 | 0
| C | 0.0000 | 3,067 | 0
| E | 0.0067 | 1,109 | 7
Thornyhead rockfish | W | 0.0308 | 410 | 13
| C | 0.0308 | 1,010 | 31
| E | 0.0308 | 520 | 16
Big skates | W | 0.0090 | 727 | 7
| C | 0.0090 | 2,463 | 22
| E | 0.0090 | 809 | 7
Longnose skates | W | 0.0090 | 66 | 1
| C | 0.0090 | 1,972 | 18
| E | 0.0090 | 780 | 7
Other skates | GW | 0.0090 | 1,327 | 12
Demersal shelf rockfish | SEO | 0.0020 | 410 | 1
Atka mackerel | Gulfwide | 0.0309 | 600 | 19
Other species | Gulfwide | 0.0090 | 13,871 | 125
¹ The Pacific cod A season for trawl gear does not open until January 20.
² The Pacific cod B season for trawl gear closes November 1.

Table 13.—Final 2006 GOA Non-Exempt American Fisheries Act Catcher Vessel (CV) Groundfish Harvest Sideboard Limitations
[Values are in metric tons]
Species | Apportionments and allocations by area/season/processor/gear | Ratio of 1995-1997 non-exempt AFA CV catch to 1995-1997 TAC | 2006 TAC | 2006 non-exempt AFA catcher vessel sideboard
Pollock | A Season (W/C areas only) |  |  |
| January 20-February 25 |  |  |
| Shumagin (610) | 0.6112 | 5,047 | 3,085
| Chirikof (620) | 0.1427 | 11,719 | 1,672
| Kodiak (630) | 0.2438 | 4,159 | 1,014
| B Season (W/C areas only) |  |  |
| March 10-May 31 |  |  |
| Shumagin (610) | 0.6112 | 5,047 | 3,085
| Chirikof (620) | 0.1427 | 13,852 | 1,977
| Kodiak (630) | 0.2438 | 2,026 | 494
| C Season (W/C areas only) |  |  |
| August 25-September 15 |  |  |
| Shumagin (610) | 0.6112 | 10,179 | 6,221
| Chirikof (620) | 0.1427 | 4,457 | 636
| Kodiak (630) | 0.2438 | 6,289 | 1,533
| D Season (W/C areas only) |  |  |
| October 1-November 1 |  |  |
| Shumagin (610) | 0.6112 | 10,179 | 6,221
| Chirikof (620) | 0.1427 | 4,457 | 636
| Kodiak (630) | 0.2438 | 6,288 | 1,533
| Annual |  |  |
| WYK (640) | 0.3499 | 1,691 | 592
| SEO (650) | 0.3499 | 6,520 | 2,281
Pacific cod | A Season ¹ |  |  |
| January 1-June 10 |  |  |
| W inshore | 0.1423 | 7,450 | 1,060
| W offshore | 0.1026 | 828 | 85
| C inshore | 0.0722 | 11,914 | 860
| C offshore | 0.0721 | 1,324 | 95
| B Season ² |  |  |
| September 1-December 31 |  |  |
| W inshore | 0.1423 | 4,967 | 707
| W offshore | 0.1026 | 552 | 51
| C inshore | 0.0722 | 7,944 | 574
| C offshore | 0.0721 | 882 | 64
| Annual |  |  |
| E inshore | 0.0079 | 2,897 | 23
| E offshore | 0.0078 | 322 | 3
Flatfish deep-water | W | 0.0000 | 330 | 0
| C | 0.0670 | 3,340 | 224
| E | 0.0171 | 3,150 | 54
Rex sole | W | 0.0010 | 1,680 | 2
| C | 0.0402 | 7,340 | 295
| E | 0.0153 | 3,630 | 56
Flathead sole | W | 0.0036 | 2,000 | 7
| C | 0.0261 | 5,000 | 131
| E | 0.0048 | 3,212 | 15
Flatfish shallow-water | W | 0.0156 | 4,500 | 70
| C | 0.0598 | 13,000 | 777
| E | 0.0126 | 3,240 | 41
Arrowtooth flounder | W | 0.0021 | 8,000 | 17
| C | 0.0309 | 25,000 | 773
| E | 0.0020 | 5,000 | 10
Sablefish | W trawl gear | 0.0000 | 481 | 0
| C trawl gear | 0.0720 | 1,374 | 99
| E trawl gear | 0.0488 | 291 | 14
Pacific ocean perch | W | 0.0623 | 2,525 | 157
| C | 0.0866 | 8,375 | 725
| E | 0.0466 | 2,392 | 111
Shortraker rockfish | W | 0.0000 | 155 | 0
| C | 0.0237 | 324 | 8
| E | 0.0124 | 274 | 3
Shortraker rockfish | W | 0.0000 | 188 | 0
| C | 0.0237 | 557 | 13
| E | 0.0124 | 282 | 3
Other rockfish | W | 0.0034 | 40 | 0
| C | 0.2065 | 300 | 62
| E | 0.0000 | 330 | 0
Northern rockfish | W | 0.0003 | 755 | 0
| C | 0.0336 | 3,995 | 134
Pelagic shelf rockfish | W | 0.0001 | 366 | 0
| C | 0.0000 | 2,973 | 0
| E | 0.0067 | 1,076 | 7
Thornyhead rockfish | W | 0.0308 | 410 | 13
| C | 0.0308 | 1,010 | 31
| E | 0.0308 | 520 | 16
Big skates | W | 0.0090 | 727 | 7
| C | 0.0090 | 2,463 | 22
| E | 0.0090 | 809 | 7
Big and Longnose skates | W | 0.0090 | 66 | 1
| C | 0.0090 | 1,972 | 18
| E | 0.0090 | 780 | 7
Other skates | GW | 0.0090 | 1,327 | 12
Demersal shelf rockfish | SEO | 0.0020 | 410 | 1
Atka mackerel | Gulfwide | 0.0309 | 600 | 19
Other species | Gulfwide | 0.0090 | 13,525 | 122
¹ The Pacific cod A season for trawl gear does not open until January 20.
² The Pacific cod B season for trawl gear closes November 1.

In accordance with § 679.64(b)(4), PSC sideboard limitations for non-exempt AFA catcher vessels in the GOA are based on the ratio of aggregate retained groundfish catch by non-exempt AFA catcher vessels in each PSC target category from 1995 through 1997, relative to the retained catch of all vessels in that fishery from 1995 through 1997. These amounts are shown in Table 14.

Table 14.—Final 2005 and 2006 Non-Exempt American Fisheries Act Catcher Vessel Prohibited Species Catch (PSC)
[Limits for the GOA Values are in metric tons]
PSC species | Season | Target fishery | Ratio of 1995-1997 non-exempt AFA CV retained catch to total retained catch | 2005 and 2006 PSC limit | 2005 and 2006 non-exempt AFA catcher vessel PSC limit
Halibut (mortality in mt) | Trawl 1st seasonal allowance, January 20-April 1 | shallow-water deep-water | 0.340 0.070 | 450 100 | 153 7
| Trawl 2nd seasonal allowance, April 1-July 1 | shallow-water deep-water | 0.340 0.070 | 100 300 | 34 21
| Trawl 3rd seasonal allowance, July 1-September 1 | shallow-water deep-water | 0.340 0.070 | 200 400 | 68 28
| Trawl 4th seasonal allowance, September 1-October 1 | shallow-water deep-water | 0.340 0.070 | 150 0 | 51 0
| Trawl 5th seasonal allowance, October 1-December 31 | all targets | 0.205 | 300 | 61

Directed Fishing Closures

In accordance with § 679.20(d)(1)(i), if the Regional Administrator determines: (1) That any allocation or apportionment of a target species or “other species” category apportioned to a fishery will be reached or, (2) with respect to pollock and Pacific cod, an allocation or apportionment to an inshore or offshore component allocation will be reached, the Regional Administrator may establish a directed fishing allowance for that species or species group. If the Regional Administrator establishes a directed fishing allowance and that allowance is or will be reached before the end of the fishing year, NMFS will prohibit directed fishing for that species or species group in the specified GOA regulatory area or district (§ 679.20(d)(1)(iii)).

The Regional Administrator has determined that the following TAC amounts in Table 15 are necessary as incidental catch to support other anticipated groundfish fisheries for the 2005 and 2006 fishing years.

Table 15.—Directed Fishing Closures in the GOA 2005 and 2006
[Amounts needed for incidental catch in other directed fisheries are in mt.]
Target | Regulatory area | Gear/component | Amount
Atka mackerel | entire GOA | all | 600
Thornyhead rockfish | entire GOA | all | 1,940
Shortraker rockfish | entire GOA | all | 753
Rougheye rockfish | entire GOA | all | 1,007
Other rockfish | entire GOA | all | 670
Sablefish | entire GOA | trawl | 2,265 (2005)
|  |  | 2,146 (2006)
Longnose skates | W GOA | all | 66
Other skates | entire GOA | all | 1,327
Pollock | entire GOA | all/offshore | unknown ¹
¹ Pollock is closed to directed fishing in the GOA by the offshore component under § 679.20(a)(6)(i).

Consequently, in accordance with § 679.20(d)(1)(i), the Regional Administrator establishes the directed fishing allowances for the above species or species groups as zero. Therefore, in accordance with § 679.20(d)(1)(iii), NMFS is prohibiting directed fishing for those species, regulatory areas, gear types, and components listed in Table 15. These closures will remain in effect through 2400 hrs, A.l.t., December 31, 2006.

Section 679.64(b)(5) provides for management of AFA catcher vessel groundfish harvest limits and PSC bycatch limits using directed fishing closures and PSC closures according to procedures set out at §§ 679.20(d)(1)(iv), 679.21(d)(8), and 679.21(e)(3)(v). The Regional Administrator has determined that, in addition to the closures listed above, many of the non-exempt AFA catcher vessel sideboard limits listed in Tables 12 and 13 are necessary as incidental catch to support other anticipated groundfish fisheries for the 2005 and 2006 fishing years. In accordance with § 679.20(d)(1)(iv), the Regional Administrator establishes the directed fishing allowances for the species and species groups in Table 16 as zero. Therefore, in accordance with § 679.20(d)(1)(iii), NMFS is prohibiting directed fishing by non-exempt AFA catcher vessels in the GOA for the species and specified areas set out in Table 16. These closures will remain in effect through 2400 hrs, A.l.t., December 31, 2006.

Table 16.—2005 and 2006 Non-Exempt AFA Catcher Vessel Sideboard Directed Fishing Closures in the GOA
[Amounts needed for incidental catch in other directed fisheries are in metric tons]
Species | Regulatory area/district | Gear | Amount
Pacific cod | Eastern GOA | all | 26 (inshore).
|  |  | 3 (offshore).
Deep-water flatfish | Western GOA | all | 0.
Rex sole | Western GOA | all | 2.
Flathead sole | Eastern and Western GOA | all | 7 and 16 (15 in 2006).
Shallow-water flatfish | Eastern GOA | all | 41.
Arrowtooth flounder | Eastern and Western GOA | all | 17 and 10.
Northern rockfish | Western GOA | all | 0.
Pelagic shelf rockfish | entire GOA | all | 0 (W), 0(C), 7(E).
Big skates | entire GOA | all | 7(W), 22(C), 7(E).
Longnose skates | Central and Eastern GOA | all | 18(C), 7(E).
Demersal shelf rockfish | SEO District | all | 1.

Under authority of the interim 2005 specifications (69 FR 74455, December 14, 2004), pollock fishing opened on January 20, 2005, for amounts specified in that notice. NMFS has since closed Statistical Area 610 to directed fishing for pollock effective 1200 hrs, A.l.t., January 23, 2005, through March 10, 2005 (70 FR 3896, January 27, 2005). NMFS closed Statistical Area 630 to directed fishing for pollock effective 1200 hrs, A.l.t., January 29 , 2005 (70 FR 5062, February 1, 2005) until 1200 hrs, A.l.t., February 6, 2005 (70 FR 6781, February 9, 2005) and 1200 hrs, A.l.t., February 14, 2005, until 1200 hrs, A.l.t., March 10, 2005 (70 FR 7901, February 16, 2005). NMFS prohibited directed fishing for Pacific cod by vessels catching Pacific cod for processing by the inshore component in the Central Regulatory Area GOA, effective 12 noon, A.l.t., January 26, 2005 (70 FR 4039, January 28, 2005).

These closures supercede the closures announced under the authority of the interim 2005 harvest specifications (69 FR 74455, December 14, 2004). While these closures are in effect, the maximum retainable amounts at § 679.20(e) and (f) apply at any time during a fishing trip. These closures to directed fishing are in addition to closures and prohibitions found in regulations at 50 CFR 679. NMFS may implement other closures during the 2005 and 2006 fishing years as necessary for effective conservation and management.

Response to Comments

NMFS received 2 letters of comment in response to the 2005 and 2006 proposed harvest specifications. These letters contained 13 separate comments that are summarized and responded to below.

Comment 1: The Council has yet to take any action on the review of the “Scientific Review of the Harvest Strategy Currently Used in the BSAI and GOA Groundfish Fishery Management Plans.” The Council's current approach to setting catch rates results in rates that are too high for rockfish.

Response: The report referred to in the comment is: Goodman, Daniel, Marc Mangel, Graeme Parkes, Terry Quinn, Victor Restrepo, Tony Smith, Kevin Stokes. 2002. “Scientific Review of the harvest Strategy Currently Used in the BSAI and GOA Groundfish Fishery Management Plans.” Prepared for the North Pacific Fishery Management Council. November 21, 2002.

Evaluation of fishery management strategies has been an ongoing research activity of the NMFS, Alaska Fisheries Science Center (AFSC) for years. Most recently, the Programmatic Supplemental Environmental Impact Statement (PSEIS) for the BSAI and GOA Groundfish FMPs devoted thousands of pages to evaluate both current and alternative fishery management strategies. A working group (WG) has been established to ensure the fisheries are managed based on the best available science, and tasked with continuing and expanding the AFSC's research in the area of management strategy evaluation (MSE). MSE research is ongoing and the WG is expected to make significant advancements in this area over the next few years. The GOA SAFE report (page 387) evaluated the harvest strategy used in the rockfish assessments with particular attention given to the consideration of the harvest rates for rockfish because of their “low productivity” (Goodman et al., 2002). The evaluation indicated that the harvest strategy is sufficiently conservative. The stock assessments are updated annually and adjustments will be made if new data indicates a downturn in the fishery populations. Also, the rockfish section of the SSC's minutes from the December 2004 Council meeting states, “The SSC appreciates the attention given by the SAFE authors and the Plan Teams to the recommendations that the SSC made last year regarding the “F40 report” by Goodman et al., the contributions to stock productivity of older female rockfish, local depletion, and the effects of disaggregation of the ABCs.” At the February 2005 Council meeting, a discussion paper on rockfish management will be presented by Council staff. Also, the Council includes ecosystem research information in an ecosystem considerations appendix to the SAFE reports.

Comment 2: The EA fails to provide the public with a full and fair analysis of the consequence of implementing the FMPs; and there is no FMP level environmental impact statement (EIS) that evaluates the effects of authorizing fishing pursuant to the FMPs.

Response: Pursuant to NEPA, NMFS prepared an EA for this action. The EA comprehensively analyzes the potential impacts of the 2005 and 2006 harvest specifications and provides the evidence to decide whether an agency must prepare and EIS. The analysis in the EA supports a finding of no significant impact on the human environment as a result of the 2005 and 2006 final harvest specifications. Therefore, an EIS is not required.

Comment 3: The commentor is concerned about the serious limitations and disappointed about the insufficient action taken regarding the Improved Retention/Improved Utilization (IR/IU) program.

Response: This action does not address IR/IU. In 1998, Groundfish FMP Amendments 49/49 were implemented, requiring 100 percent retention of all pollock and Pacific cod in all fisheries, regardless of gear type. This provided incentives for fishermen to avoid catching these species if they were not targeted, and also required that they be retained for processing if they were caught. An overall minimum groundfish retention standard was approved by the Council in June 2003, with increasing retention standards being phased in starting in 2005. NMFS is preparing a proposed rule based on the Council recommendations. Concurrently, the Council is developing a program that allows sectors targeting flatfish species in the BSAI to form fishery cooperatives. This program is intended to program these sectors with the operational tools necessary to adhere to the increased retention standards.

Comment 4: The Council and NMFS have taken no action to ensure that adverse impacts on essential fish habitat (EFH) will not occur during the EIS process and that the choice of reasonable alternatives will not be limited.

Response: NMFS prepared a draft EIS for EFH dated January 2004, which included a broad range of alternatives for minimizing the effects of fishing on EFH. Further information on the draft EIS may be found at the NMFS Alaska Region website at www.fakr.noaa.gov. NMFS is revising the EIS to include two additional alternatives based on public comments. The final EFH EIS is scheduled for publication by June 1, 2005. Fishing in accordance with this action in the context of the fishery as a whole could have led to adverse impacts on EFH. Therefore, NMFS prepared an EFH Assessment that incorporates all of the information required in 50 CFR 600.920(e)(3), and initiated EFH consultation pursuant to 50 CFR 600.920(i). The EFH Assessment is contained in the EA prepared for this action. The consultation found that this action continues to minimize to the extent practicable adverse effects on EFH.

Comment 5: Fishing, as allowed under the current specifications, is overfishing and starves all other marine life of food.

Response: None of the groundfish species managed in Alaska are known to be experiencing overfishing or are overfished as defined by the Magnuson-Stevens Act. Ecosystem considerations are part of the harvest specification process to ensure fish harvests impacts on the ecosystem are minimized as much as possible and that all organisms dependent on the marine ecosystem are adequately protected.

Comment 6: All quotas should be cut by 50 percent starting in 2005 and 10 percent each year thereafter. Also, marine sanctuaries should be established.

Response: The commentor provided no reason for the quotas to be reduced. The decisions on the amount of harvest are based on the best available science and socioeconomic considerations. NMFS finds that the ABCs and TACs are consistent with the biological condition of the groundfish stocks as described in the 2004 SAFE report and approved by the Council. Additionally, this action does not address the creation of marine sanctuaries. The concept of establishing marine reserves is explored in the draft environmental impact statement (EIS) for essential fish habitat (EFH), dated January 2004. Further information on the draft EIS may be found at the NMFS Alaska Region Web site at http://www.fakr.noaa.gov.

Comment 7: A commentor incorporated the Pew Foundation reports on overfishing and the United Nations report on overfishing into their comment.

Response: The specific concerns and relationship of these reports to this action are not presented by the commentor. Because no further details are provided by the commentor, NMFS is unable to respond further to this comment.

Comment 8: The number of vessels that are allowed to catch fish are far too great.

Response: On January 1, 2000, the NMFS implemented the License Limitation Program (LLP), which limits the number, size, and specific operation of vessels that may be deployed in the groundfish fisheries in the exclusive economic zone off Alaska. By limiting the number of vessels that are eligible to participate in the affected fisheries, the LLP places an upper limit on the amount of capitalization that may occur in those fisheries. This upper limit will prevent future overcapitalization in those fisheries at levels that could occur if such a constraint was not present. The number of vessels participating in the groundfish fisheries off Alaska has decreased approximately 16 percent from 1,228 vessels in 2000 to 1,037 vessels in 2003.

Comment 9: Steller sea lions and other seal populations are being decimated by the commercial fisheries.

Response: Several species of groundfish, notably pollock, Pacific cod, and Atka mackerel, are important prey species for Steller sea lions and are also targeted by the groundfish fisheries. The pollock, Pacific cod, and Atka mackerel fisheries may compete with Steller sea lions by reducing the availability of prey for foraging sea lions. However, this potential competition between commercial fishers and Steller sea lions for pollock, Pacific cod, and Atka mackerel is addressed by regulations that limit the total amount of catch and impose temporal and spatial controls on harvest. These Steller sea lion protection measures are designed to preserve prey abundance and availability for foraging sea lions. These protection measures ensure the groundfish fisheries are unlikely to cause jeopardy of extinction or adverse modification or destruction of critical habitat for the Western distinct population segment of Steller sea lions.

Comment 10: NMFS does not use the “best” information. It uses manipulated information submitted by commercial fisheries. NMFS does zero law enforcement to catch illegal raping of the sea.

Response: NMFS used data from sources other than the fishing industry reported data. NMFS uses data from fisheries observers who are biologists working independently to collect biological information aboard commercial fishing vessels and at shoreside processing plants in Alaska. Observers are deployed by private, federally permitted observer providers. The NMFS, AFSC, Resource Assessment and Conservation Engineering Division conducts fishery surveys to measure the distribution and abundance of commercially important fish stocks in the BSAI and GOA. This data is used to investigates biological processes and interactions with the environment to estimate growth, mortality, and recruitment to improve the precision and accuracy of forecasting stock dynamics. Data derived from groundfish surveys are documented in scientific reports and are incorporated into stock assessment advice to the Council, international fishery management organizations, the fishing industry, and the general public. See comment 12 regarding NMFS fishery enforcement.

Comment 11: The time period for the public to comment on this proposed rule should be extended by 120 days.

Response: The commentor provided no reason for the comment period extension request. Because no justification is known for extending the comment period, the comment period remains 30 days for the proposed rule.

Comment 12: The fisherman are taking 3 times what they report.

Response: NMFS disagrees with the commentor's assertion that groundfish fishers systematically under-report their catch. The recordkeeping and reporting requirements in these fisheries are comprehensive, and NMFS and United States Coast Guard law enforcement officers conduct numerous vessel boardings each year. Reporting violations do occur, but they are relatively rare compared to the participation in the overall fishery and are prosecuted pursuant to the Magnuson-Stevens Act.

Comment 13: A commentor provided an article regarding the United Nations recommendations for banning of high seas bottom trawling.

Response: The commentor did not provide the relationship of this action to the article. This action is limited to the EEZ off Alaska and does not address high seas commercial fishing activities. However, NMFS does work on issues concerning high seas commercial fishing activities. One example is the limitation of high seas drift net fishing for salmon in the north Pacific. As a result of this international treaty the United States is empowered to prohibit United States vessels from participating in this activity and enforce the terms of the treaty on the high seas. Also, NMFS, AFSC is conducting studies on the impacts of bottom trawls on the sea floor and the description of bottom types.

Small Entity Compliance Guide

The following information is a plain language guide to assist small entities in complying with this final rule as required by the Small Business Regulatory Enforcement Fairness Act of 1996. This final rule's primary management measures are to announce 2005 and 2006 final harvest specifications and prohibited species bycatch allowances for the groundfish fishery of the GOA. This action is necessary to establish harvest limits and associated management measures for groundfish during the 2005 and 2006 fishing years and to accomplish the goals and objectives of the FMP. This action affects all fishermen who participate in the GOA fishery. The specific amounts of OFL, ABC, TAC and PSC amounts are provided in tabular form to assist the reader. NMFS will announce closures of directed fishing in the Federal Register and in information bulletins released by the Alaska Region. Affected fishermen should keep themselves informed of such closures.

Classification

This action is authorized under § 679.20 and is exempt from review under Executive Order 12866.

A Final Regulatory Flexibility Analysis (FRFA) was prepared to evaluate the impacts of the 2005 and 2006 harvest level specifications on directly regulated small entities. This FRFA is intended to meet the statutory requirements of the Regulatory Flexibility Act (RFA).

The proposed rule for the GOA specifications was published in the Federal Register on December 7, 2004 (69 FR 70605). An Initial Regulatory Flexibility Analysis (IRFA) was prepared for the proposed rule, and described in the classifications section of the preamble to the rule. Copies of the IRFA prepared for this action are available from Alaska, Region, NMFS, P.O. Box 21668, Juneau, AK 99802, Attn: Lori Durall. The public comment period ended on January 6, 2005. No comments were received on the IRFA or regarding the economic impacts of this rule.

The 2005 and 2006 harvest specifications establish harvest limits for the groundfish species and species groups in the GOA. This action is necessary to allow fishing in 2005 and 2006. About 758 small catcher vessels, 24 small catcher-processors, and six small private non-profit CDQ groups may be directly regulated by the GOA specifications.

This regulation does not impose new recordkeeping or reporting requirements on the regulated small entities. This regulation does not duplicate, overlap, or conflict with any other Federal rules.

The FRFA examined the impacts of the preferred alternative on small entities within fisheries defined by the harvest of species groups whose TACs might be affected by the specifications. The FRFA identified the following adverse impacts from the preferred alternative on small fishing operations harvesting sablefish and Pacific cod in the GOA.

The aggregate gross revenues for an estimated 382 small GOA sablefish entities were estimated to decline by about $5.7 million. A reduction in revenues of this magnitude would have accounted for about 3.0% of total 2003 gross revenues from all sources for these small entities.

The aggregate gross revenues for an estimated 207 small GOA Pacific cod entities were estimated to decline by about $3.9 million. A reduction in revenues of this magnitude would have accounted for about 3.2% of total 2003 gross revenues from all sources for these small entities.

Although the preferred alternative had adverse impacts on some classes of small entities, compared to the fishery in the preceding year, alternatives that had smaller adverse impacts were precluded by biological management concerns. Four alternatives were evaluated, in addition to the preferred alternative. Alternative 1 set TACs equal to the maxFABC fishing rate. Alternative 1 was associated with high TACs, high revenues, and TACs that exceeded the statutory BSAI OY. Alternative 2, the preferred alternative, set TACs to produce the fishing rates recommended by the Council on the basis of Plan Team and SSC recommendations. Alternative 3 set TACs to produce fishing rates equal to half the maxFABC, and Alternative 4 set TACs to produce fishing rates equal to the last five years' average fishing rate. Alternative 5 set TACs equal to zero.

GOA Pacific cod fishermen would have had larger gross revenues under two other alternatives, Alternatives 1 and 4, than under the preferred alternative. GOA sablefish fishermen would not have had larger gross revenues under any alternative. The sablefish TACs are set equal to the recommended ABC. The ABCs are recommended by the Council on the basis of the biological recommendations made to it by its Plan Teams and its SSC. Higher TACs would not be consistent with prudent biological management of the fishery. The situation is very similar for Pacific cod. Although the Pacific cod TACs under the preferred alternative are lower than the ABC, these lower TACs reflect guideline harvest levels for Pacific cod set by the State of Alaska for its own waters. To protect the resource, the sum of the State's GHL and the Federal TAC are not allowed to exceed the ABC. Thus, this TAC also has been set as high as possible while still protecting the biological health of the stock. The Pacific cod Federal TACs and State GHLs under Alternatives 1 and 4 would have exceeded the ABCs. Alternative 2 was chosen because it provided Pacific cod fishermen with larger gross revenues than Alternatives 3 or 5, and sablefish fishermen larger gross revenues than Alternatives 3, 4, or 5.

Under the provisions of 5 U.S.C. 553(d)(1), an agency can waive a delay in the effective date of a substantive rule if it relieves a restriction. Unless this delay is waived, fisheries that are currently closed (see SUPPLEMENTARY INFORMATION) because the interim TACs were reached would remain closed until the final harvest specifications became effective. Those closed fisheries are restrictions on the industry that can be relieved by making the final harvest specifications effective on publication.

Under the provisions of 5 U.S.C. 553(d)(3), an agency can waive a delay in the effective date for good cause found and published with the rule. For all other fisheries not currently closed because the interim TACs were reached, the likely possibility exists for their closures prior to the expiration of a 30-day delayed effectiveness period because their interim TACs or PSC allowances could be reached. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries and causing them to close at an accelerated pace. The interim harvest specifications currently in effect are not sufficient to allow directed fisheries to continue predictably, resulting in unnecessary closures and disruption within the fishing industry and the potential for regulatory discards. The final harvest specifications establish increased TACs and PSC allowances to provide continued directed fishing for species that would otherwise be prohibited under the interim harvest specifications. These final harvest specifications were developed as quickly a possible, given Plan Team review in November 2004, Council consideration and recommendations in December 2004, and NOAA fisheris review and development in January-February 2005. Additionally, if the final harvest specifications are not effective by February 27, 2005, which is the start of the Pacific halibut season as specified by the IPHC, the longline sablefish fishery will not begin concurrently with the Pacific halibut season. This would cause sablefish that is caught with Pacific halibut to be discarded, as both longline sablefish and Pacific halibut are managed under the same IFQ program. These final harvest specifications were developed as quickly as possible, given plan team review in November 2004, Council consideration and recommendations in December 2004, and NMFS review and development in January through February 2005.

Authority: 16 U.S.C. 773 et seq., 1801 et seq., and 3631 et seq.; 16 U.S.C. 1540(f); Pub. L. 105-277, Title II of Division C; Pub L. 106-31, Sec. 3027; and Pub L. 106-554, Sec. 209.

Dated: February 17, 2005.
Rebecca Lent,
Deputy Assistant Administrator for Regulatory Programs, National Marine Fisheries Service.

[FR Doc. 05-3581 Filed 2-23-05; 8:45 am]

BILLING CODE 3510-22-P